DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forests' Lincoln County Resource Advisory Committee will meet on July 14, August 4, and September 8, 2003, at 6:30 p.m. in Libby, Montana for business meetings. The meetings are open to the public.

DATES: July 14, August 4, and September 8, 2003.

ADDRESSES: The meetings will be held at the Forest Supervisor's Office, 1101 US Highway 2 West, Libby.

FOR FURTHER INFORMATION CONTACT: Barbara Edgmon, Committee Coordinator, Kootenai National Forest at (406) 293-6211, or email bedgmon@fs.fed.us.

SUPPLEMENTARY INFORMATION: Agenda topics include informational presentations, status of approved projects, accepting project proposals for consideration and receiving public comment. If the meeting date or location is changed, notice will be posted in the local newspapers, including the Daily Interlake based in Kalispell, MT.

Dated: June 19, 2003.
Bob Castaneda,
Forest Supervisor.

[FR Doc. 03-15985 Filed 6-24-03; 8:45 am]

BILLING CODE 3410-11-M